DEPARTMENT OF ENERGY

Federal Energy Regulatory Commission

[Project No. 1971-079]

Idaho Power Company; Notice of Intent To Prepare a Supplemental Environmental Impact Statement

On July 21, 2003, Idaho Power Company (Idaho Power) filed an application for a new license for the Hells Canyon Project,¹ FERC No. 1971. The project is located on the Snake River in Washington and Adams Counties, Idaho, and Wallowa and Baker Counties, Oregon. The Hells Canyon Project consists of three developments (dams, reservoirs, and powerhouses) on the segment of the Snake River forming the border between Idaho and Oregon.² The three developments are Brownlee, Oxbow, and Hells Canyon, which combined provide 1,167 megawatts of power generating capacity and 6,562,244 megawatt hours of electricity annually. The project occupies approximately 5,640 acres of federal land, including land managed by the U.S. Bureau of Land Management and the U.S. Forest Service.

¹ Referred to in Idaho Power's license application as the Hells Canyon Complex.

² The current license expired on July 31, 2005, and the project is operating under an annual license.

On August 31, 2007, the Commission issued a final Environmental Impact Statement (EIS) for the Hells Canyon Project. On December 30, 2019, Idaho Power filed an Offer of Settlement (settlement) with the Commission for the Hells Canyon Project.³ The settlement, which was executed on April 22, 2019, includes, among other items, spring Chinook salmon and summer steelhead fish passage measures. In addition, the Oregon and Idaho Departments of Environmental Quality each issued a water quality certification under section 401 of the Clean Water Act for the Hells Canyon Project on May 24, 2019.

³ On January 7, 2020, the Commission issued notice of the offer of settlement's filing.

On July 1, 2020, Idaho Power supplemented the final license application for the project with additional information on its proposal, including an analysis of the new and revised fish-related protection, mitigation, and enhancement measures proposed under the settlement, and updated information on project resources. Additionally, Idaho Power filed on October 14, 2020, draft biological assessments for species managed by the U.S. Fish and Wildlife Service and the National Marine Fisheries Service, which included an analysis of the effects of the new and revised measures on fish and wildlife listed under the Endangered Species Act.

In order to assess the new and revised fish-related protection, mitigation, and enhancement measures proposed under the settlement, the Oregon and Idaho water quality certificates, and the draft biological assessments, Commission staff intends to prepare a draft and final supplemental EIS in accordance with the National Environmental Policy Act. The supplemental EIS will describe and evaluate the effects of the proposed action and alternatives. The focus of the supplemental EIS will be on the new and revised measures proposed by the settlement, the conditions contained in the Oregon and Idaho water quality certificates, and the information provided in the draft biological assessments. For the resource areas not affected by the new and revised proposed measures or new environmental information, the supplemental EIS will either include or incorporate by reference analyses from the Commission's final EIS.

With this notice, we are reinitiating informal consultation with the U.S. Fish and Wildlife Service and the National Marine Fisheries Service under section 7 of the Endangered Species Act and the joint agency regulations thereunder at 50 CFR part 402.

The draft supplemental EIS will be sent to all persons and entities on the Commission's service and mailing lists for the Hells Canyon Project. Recipients will then have 60 days to review the draft supplemental EIS and file written comments with the Commission. All comments filed with the Commission on the final supplemental EIS will be considered in the Order taking final action on the license application. The application will be processed according to the following Hydro Licensing Schedule. Revisions to the schedule may be made as appropriate.

Milestone | Target date
Draft supplemental EIS Issued | June 2023.
Comments Due on draft supplemental EIS | August 2023.
Final supplemental EIS Issued | December 2023.

This notice informs all interested individuals, organizations, and agencies with environmental expertise and concerns, that: (1) the Commission staff has decided to prepare a supplemental EIS addressing the settlement; and (2) the comments, recommendations, and terms and conditions already on file with the Commission on the application will be taken into account in the supplemental EIS.

Any questions regarding this notice may be directed to Nicholas Ettema at 312-596-4447, or by email at nicholas.ettema@ferc.gov.

Dated: June 13, 2022.
Debbie-Anne A. Reese,
Deputy Secretary.

[FR Doc. 2022-13119 Filed 6-16-22; 8:45 am]

BILLING CODE 6717-01-P